DEPARTMENT OF COMMERCE

Minority Business Development Agency

[Docket No. 000724217-4236-10]

Solicitation of Applications for the Minority Business Development Center (MBDC) Program

AGENCY: Minority Business Development Agency, DOC.

ACTION: Notice.

SUMMARY: In accordance with Executive Order 11625 and 15 U.S.C. 1512, the Minority Business Development Agency (MBDA) is soliciting competitive applications from organizations to operate Minority Business Development Centers (MBDCs) under its Minority Business Development Center Program in the following geographic areas: Honolulu, Oklahoma City, and Miami/Ft. Lauderdale.

In order to receive consideration, applicants must comply with all information and requirements contained in the Federal Funding Opportunity Announcement. For-profit entities (including sole proprietorships and corporations), non-profit organizations, state and local government entities, American Indian Tribes and educational institutions are eligible to operate MBDCs.

The MBDC Program requires MBDC staff to provide standardized business assistance services to rapid growth potential minority businesses directly; to develop a network of strategic partnerships; to charge client fees; and to provide strategic business consulting. These requirements will be used to generate increased results with respect to financing and contracts awarded to minority-owned firms and thus, are a key component of this program. The MBDC Program will concentrate on rapid growth potential minority business enterprises (MBEs), e.g., those generating $500,000 or more in annual revenues or capable of generating significant employment and long-term economic growth. The MBDC Program shall continue to leverage telecommunications technology, including the Internet, and a variety of online computer-based resources to dramatically increase the level of service that the MBDC can provide to minority-owned firms, including micro-enterprises.

DATES: The closing date for submission of applications is September 21, 2004. Completed applications must be received by MBDA no later than 5 p.m. Eastern Daylight Savings Time at the address below. Applications received after the closing date and time will not be considered.

Anticipated time for processing of applications is one hundred twenty (120) days from the date of publication of this notice.

A pre-application teleconference will be held on August 25, 2004, for the MBDC project solicitations.

MBDA anticipates that awards for the MBDC program will be made with a start date of January 1, 2005.

ADDRESSES: If the application is mailed by the applicant or its representative, they must submit one (1) signed original plus two (2) copies of the application. Completed application packages must be mailed to: Office of Business Development, Office of Executive Secretariat, HCHB, Room 5063, Minority Business Development Agency, U.S. Department of Commerce, 14th Street and Constitution Avenue, NW., Washington, DC 20230.

If the application is hand-delivered by the applicant or his/her representative, one (1) signed original plus two (2) copies of the application must be delivered to: U.S. Department of Commerce, HCHB, Room 1874, Entrance #10, 15th Street, NW., Washington, DC, located between Pennsylvania and Constitution Avenues.

If applying on-line at http://www.mbda.gov, all sections of the application (Program Narrative, SF-424, SF-424A, SF-424B, SF-LLL, CD-346, and CD-511) must be completed in order for the application to be considered. In addition to applying on-line, you must also hand-deliver or mail one original plus two (2) copies of only the pages that require original signatures by the closing date and time stated above.

FOR FURTHER INFORMATION CONTACT: For a copy of the Federal Funding Opportunity Announcement as well as further information (including Frequently Asked Questions/Answers, Pre-Application teleconference, etc.), please visit MBDA's Minority Business Internet Portal (MBDA Portal) at http://www.mbda.gov or contact the appropriate regional office listed below. A printed application package can also be obtained by contacting the specified MBDA National Enterprise Center (NEC) for the geographic service area in which the project will be located (see Geographic Service Area in this notice).

Regional Agency Contacts:

1. MBDC Application: Honolulu. Linda Marmolejo, Regional Director, San Francisco National Enterprise Center, Minority Business Development Agency, U.S. Department of Commerce, 221 Main Street, Room 1280, San Francisco, CA 94105, 415-744-3001.

2. MBDC Application: Oklahoma City. John F. Iglehart, Regional Director, Dallas National Enterprise Center, Minority Business Development Agency, U.S. Department of Commerce, 100 Commerce Street, Room 7B-23, Dallas, Texas 75242, 214-767-8001.

3. MBDC Application: Miami/Ft. Lauderdale. Robert Henderson, Regional Director, Atlanta National Enterprise Center, Minority Business Development Agency, U.S. Department of Commerce, 401 W. Peachtree Street, NW., Suite 1715, Atlanta, GA 30308-3516, 404-730-3300.

SUPPLEMENTARY INFORMATION:

Electronic Access

The full text Federal Funding Opportunity Announcement for the MBDC program is available via Web site at http://www.mbda.gov or by contacting the MBDA representative identified above. An abbreviated announcement will also be available through Grants.gov at http://www.Grants.gov.

Applicants are encouraged to submit their proposal electronically via the Internet and mail or hand-deliver only the pages that require original signatures by the closing date and time, as stated in this Notice. Applicants may submit their applications on the MBDA Portal located at http://www.mbda.gov. All required forms are located at this web address. However, the following paper forms must be submitted with original signatures in conjunction with any electronic submissions by the closing date and time stated in this Notice: (1) SF-424, Application for Federal Assistance; (2) SF-424B, Assurances—Non-Construction Programs; (3) SF-LLL (Rev. 7-97) (if applicable), Disclosure of Lobbying Activities; (4) Department of Commerce Form CD-346 (if applicable), Application for Funding Assistance; and, (5) CD-511, Certifications Regarding Debarment, Suspension and Other Responsibility Matters: Drug-Free Workplace Requirements and Lobbying.

Funding Availability

The total award period is two (2) years with a third year option. MBDA anticipates a total of approximately $738,750 will be available in FY 2005 for Federal assistance under this program and approximately $738,750 for FY 2006 and possibly $738,750 for FY 2007 to be applied in the optional third year of funding under this program. Applicants are hereby given notice that funds have not yet been appropriated for this program. In no event will MBDA or the Department of Commerce (DoC) be responsible for proposal preparation costs if this program fails to receive funding or is cancelled because of other agency priorities.

Financial assistance awards under this program may range from $155,000 to $338,750 in Federal funding per year based upon minority population, the size of the market and its need for MBDA resources. Applicants must submit project plans and budgets for each of the two years. Projects will be funded for no more than one year at a time. Project proposals accepted for funding will not compete for funding in subsequent budget periods within the approved award period. Second year funding will depend upon first year satisfactory performance by the award recipient. Funding for the subsequent third year will be at the sole discretion of the MBDA and the DoC, and only those MBDC's achieving outstanding performance ratings for each prior program year will be eligible for continued funding. All funding periods are subject to the availability of funds to support the continuation of the project, DoC and Agency priorities. Publication of this notice does not obligate MBDA or DoC to award any specific cooperative agreement or to obligate all or any part of available funds.

Authority: Executive Order 11625 and 15 U.S.C. 1512.

Catalog of Federal Domestic Assistance (CFDA): 11.800 Minority Business Development Center Program.

Eligibility

For-profit entities (including sole-proprietorships, partnership, and corporations), and non-profit organizations, state and local government entities, American Indian Tribes, and educational institutions are eligible to operate MBDCs.

Program Description

In accordance with Executive Order 11625 and 15 U.S.C. 1512, MBDA is soliciting competitive applications from organizations for cooperative agreements to operate MBDCs under its MBDC program in the following geographic service areas: Honolulu, Oklahoma City and Miami/Ft. Lauderdale.

The MBDC program requires MBDC staff to provide standardized business assistance services to rapid growth potential minority businesses directly; to develop a network of strategic partnerships; to charge client fees; and to provide strategic business consulting. These requirements will be used to generate increased results with respect to financing and contracts awarded to minority-owned firms and thus, are a key component of this program.

The MBDC program will concentrate on rapid growth potential minority business enterprises (MBEs), e.g., those generating $500,000 or more in annual revenues or capable of generating significant employment and long-term economic growth. The MBDC program shall continue to leverage telecommunications technology, including the Internet, and a variety of online computer-based resources to dramatically increase the level of service that the MBDC can provide to minority-owned firms, including micro-enterprises.

The MBDC program incorporates an entrepreneurial approach to building market stability and improving the quality of services delivered. This strategy expands the reach of the MBDC by requiring project operators to develop and build upon strategic alliances with public and private sector partners, as a means of serving the growing numbers of minority firms with rapid growth potential within the project's geographic service area. In addition, MBDA will establish specialized business consulting training programs to support the MBDC client assistance services. These MBDC training programs are designed specifically to foster growth assistance to its clients. The MBDC will also encourage increased collaboration and client/non-client referrals among the MBDA-sponsored networks. This will provide a comprehensive approach to serving the emerging sector of the minority business community.

The MBDC will operate through the use of trained professional business consultants who will assist minority entrepreneurs through direct client engagements.

Entrepreneurs eligible for assistance under the MBDC Program are African Americans, Puerto Ricans, Spanish-speaking Americans, Aleuts, Asian Pacific Americans, Asian Indians, Native Americans, Eskimos and Hasidic Jews.

As part of its strategy for continuous improvement, the MBDC shall expand its delivery capacity to all minority firms, with greater emphasis on emerging/rapid growth-potential minority firms capable of impacting economic growth and employment. MBDA wants to ensure that MBDC clients are receiving a consistent level of service throughout its funded network. To that end, MBDA will require MBDC consultants to attend a series of training courses designed to achieve standardized services and quality expectations.

Selection Procedures

Prior to the formal paneling process, each application will receive an initial screening to ensure that all required forms, signatures and documentation are present. Each application will receive an independent, objective review by a panel qualified to evaluate the applications submitted. MBDA anticipates that the review panel will be made up of at least three independent reviewers who are Federal employees who will review all applications based on the above evaluation criteria. Each reviewer will evaluate and provide a score for each proposal. The National Director of MBDA makes the final recommendation to the Department of Commerce Grants Officer regarding the funding of applications, taking into account the following selection criteria:

1. The evaluations and rankings of the independent review panel;

2. The following funding priorities: (a) Identifying and working to eliminate barriers which limit the access of minority businesses to markets and capital; (b) identifying and working to meet the special needs of minority businesses seeking to obtain large-scale contracts (in excess of $500,000) with institutional customers; and (c) promoting the understanding and use of Electronic Commerce by the minority business community. The National Director or his designee reserves the right to conduct a site visit (subject to the availability of funding) to applicant organizations receiving at least 70% of the total points available for each evaluation criterion, in order to make a better assessment of the organization's capability to achieve the three funding priorities.

3. The availability of funding.

Evaluation Criteria

Proposals will be evaluated and applicants will be selected based on the following criteria. An application must receive at least 70% of the total points available for each evaluation criterion, in order for the application to be considered for funding.

1. Applicant Capability (45 Points)

The applicant's proposal will be evaluated with respect to the applicant firm's experience and expertise in providing the work requirements listed. Specifically, the proposals will be evaluated as follows:

• MBE Community—experience in and knowledge of the minority business sector and strategies for enhancing its growth and expansion (5 points);

• Business Consulting—experience in and knowledge of business consulting of rapid growth-potential minority firms (10 points);

• Financing—experience in and knowledge of the preparation and formulation of successful financial transactions (5 points);

• Procurements and Contracting—experience in and knowledge of the public and private sector contracting opportunities for minority businesses (5 points);

• Financing Networks—resources and professional relationships within the corporate, banking and investment community that may be beneficial to minority-owned firms (5 points);

• MBE Advocacy—experience and expertise in advocating on behalf of minority businesses, both as to specific transactions in which a minority business seeks to engage, and as to broad market advocacy for the benefit of the minority community at large (5 points); and

• Key Staff—assessment of the qualifications, experience and proposed role of staff who will operate the MBDC. In particular, an assessment will be made to determine whether proposed staff possess the expertise in utilizing information systems. (10 points).

2. Resources (20 Points)

The applicant's proposal will be evaluated according to the following criteria:

• Resources—discuss those resources (not included as part of the cost-sharing arrangement) that will be used. (10 points);

• Partners—discuss how you plan to establish and maintain the network of five (5) Strategic Partners (5 points);

• Equipment—discuss how you plan to accomplish the computer hardware and software requirements (5 points).

3. Techniques and Methodologies (25 Points)

The applicant's proposal will be evaluated as follows:

• Performance Measures—relate each performance measure to the financial, information and market resources available in the geographic service area to the applicant and how the goals will be met. Specific attention should be placed on the Dollar Value of Transactions. This goal represents the sum of (a) Dollar Value of Financial Transactions and (b) Dollar Value of Gross Receipts. When proposing the minimum goal under Dollar Value of Transactions, the applicant is given the flexibility to address the percentage breakdown for items (a) and (b) above within a specific range—not more than 60% and not less than 40%. The applicant should consider existing market conditions and its strategy to achieve the goal. The applicant may vary the percentage breakdown for items (a) and (b) above as long as the sum meets the required goal as provided by MBDA in this Notice. (15 points)

• Plan of Action—provide specific detail on how the applicant will start operations. MBDCs have thirty (30) days to become fully operational after an award is made. Fully operational means that all staff are hired, all signs are up, all items of furniture and equipment are in place and operational, all necessary forms are developed (e.g., client engagement letters, other standard correspondence, etc.), and the center is ready to open its doors to the public (5 points);

• Work Requirement Execution Plan—The applicant will be evaluated on how effectively and efficiently all staff time will be used to achieve the work requirements (5 points).

4. Proposed Budget and Supporting Budget Narrative (10 Points)

The applicant's proposal will be evaluated on the following sub-criteria:

• Reasonableness, allowability and allocability of costs (5 points).

• Proposed cost sharing of 15% is required. The non-Federal share must be adequately documented, including how client fees will be used to meet the cost-share (5 points).

Bonus Points

Proposals with cost sharing which exceeds 15% will be awarded bonus points on the following scale: 16-20%—1 point; 21-25%—2 points; 26-30%—3 points; 31-35%—4 points; and over 36%—5 points.

Matching Requirements

Cost sharing of at least 15% is required. Cost sharing is the portion of the project cost not borne by the Federal Government. Applicants must meet this requirement in client fees and any one or more of remaining three means or a combination thereof: (1) Client fees (mandatory); (2) cash contributions; (3) non-cash applicant contributions; and/or (4) third party in-kind contributions.

The MBDC must charge client fees for services rendered. The fees may range from $10 to $60 per hour based on the gross receipts of the client's business ranging from $0 to $5 million and above. The MBDC must comply with the following policy restrictions when charging client service fees: (1) Client fees charged for one-on-one assistance must be based on a rate of $100 per hour, (2) the MBDC must set fee rates based on the following chart:

Gross receipts of client | Base rate for services rendered | Percent of cost borne by client | Client fee per hour
$0-99,999 | $100.00 | 10% | $10.00
$100,000-299,999 | 100.00 | 20% | 20.00
$300,000-999,999 | 100.00 | 30% | 30.00
$1 Million-2,999,999 | 100.00 | 40% | 40.00
$3 Million-4,999,999 | 100.00 | 50% | 50.00
$5 Million and Above | 100.00 | 60% | 60.00

(3) the MBDC must contribute cash for uncollected fees that were included as part of the cost sharing contribution committed for this award, and (4) client fees applied directly to the award's cost sharing requirement must be used in furtherance of the program objectives.

Intergovernmental Review

Applications under this program are not subject to Executive Order 12372, “Intergovernmental Review of Federal Programs.”

Universal Identifier

Applicants should be aware that they may be required to provide a Dun and Bradstreet Data Universal Numbering System (DUNS) number during the application process. See the June 27, 2003 (68 FR 38402) Federal Register notice for additional information. Organizations can receive a DUNS number at no cost by calling the dedicated toll-free DUNS Number request line at 1-866-705-5711 or on MBDA's Web site at www.mbda.gov.

Department of Commerce Pre-Award Notification Requirements for Grants and Cooperative Agreements

The Department of Commerce Pre-Award Notification Requirements for Grants and Cooperative Agreements contained in the Federal Register notice of October 1, 2001 (66 FR 49917), as amended by the Federal Register notice published on October 30, 2002 (67 FR 66109), are applicable to this solicitation.

Application Forms and Package

One (1) original and two (2) signed copies of the application must consist of: Standard Forms 424, Application for Federal Assistance; 424A, Budget Information-Non-Construction Programs; and 424B, Assurances-Non-Construction Programs, SF-LLL (Rev. 7-97); Department of Commerce forms, CD-346, Applicant for Funding Assistance; CD-511, Certifications Regarding Debarment, Suspension and Other Responsibility matters: Drug-Free Workplace Requirements and Lobbying.

Failure to submit a signed, original SF-424 with the application, or separately in conjunction with submitting a completed proposal electronically, by the deadline will result in the application being rejected and returned to the applicant. A completed proposal submitted electronically consists of the following sections: Program Narrative; Standard Forms 424; 424A; 424B; and LLL; and Department of Commerce forms, CD-346; and 511. Failure to sign and submit with the application, or separately in conjunction with submitting a proposal electronically, the forms identified above by the deadline will automatically cause an application to lose two (2) points. Failure to submit other documents or information may adversely affect an applicant's overall score. MBDA shall not accept any changes, additions, revisions or deletions to competitive applications after the closing date for receiving applications, except through a formal negotiation process.

Paperwork Reduction Act

This document contains collection-of-information requirements subject to the Paperwork Reduction Act (PRA). The use of Standard Forms 424, 424A, 424B, CD 346, and SF-LLL have been approved by OMB under the respective control numbers 0348-0043, 0348-0044, 0348-0040, 0605-0001, and 0348-0046.

Notwithstanding any other provision of law, no person is required to respond to, nor shall any person be subject to a penalty for failure to comply with a collection of information subject to the Paperwork Reduction Act unless that collection displays a currently valid OMB Control Number.

Executive Order 12866

This notice has been determined to be not significant for purposes of E.O. 12866.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Dated: August 17, 2004.
Ronald J. Marin,
Financial Management Officer, Minority Business Development Agency.

[FR Doc. 04-18761 Filed 8-16-04; 8:45 am]

BILLING CODE 3510-21-P